DEPARTMENT OF ENERGY

Federal Energy Regulatory Commission

[Docket No. EL12-79-000]

Alison Haverty v. Potomac-Appalachian Transmission Highline, LLC; Notice of Complaint and Expedited Answer Period

Take notice that on June 27, 2012, pursuant to section 206 of the Federal Power Act and Rule 206 of the Rules of Practice and Procedure of the Federal Energy Regulatory Commission (Commission); 18 CFR 385.206, Alison Haverty (Complainant) filed a formal complaint against Potomac-Appalachian Transmission Highline, LLC (Respondent), alleging that the Respondent has informed the Complainant that she may not participate in a meeting on the Respondent's Annual Transmission Revenue Requirement, despite having an interest in the outcome of the proceedings. In order to expedite the proceedings, answers and protests are due July 5, 2012.

The Complainant certifies that copies of the complaint were served on the contacts for the Respondent as listed on the Commission's list of Corporate Officials.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the web site that enables subscribers to receive email notification when a document is added to a subscribed docket(s). For assistance with any FERC Online service, please email FERCOnlineSupport@ferc.gov, or call (866) 208-3676 (toll free). For TTY, call (202) 502-8659.

Comment Date: 5:00 p.m. Eastern Time on July 5, 2012.

Dated: June 29, 2012.
Nathaniel J. Davis, Sr.,
Deputy Secretary.

[FR Doc. 2012-16561 Filed 7-5-12; 8:45 am]

BILLING CODE 6717-01-P